DEPARTMENT OF AGRICULTURE

Forest Service

Southwest Washington Provincial Advisory Committee Meeting Notice

AGENCY: Forest Service, USDA.

ACTION: Notice of meeting.

SUMMARY: The Southwest Washington Provincial Advisory Committee will meet on Wednesday, November 15, 2000, at the Gifford Pinchot National Forest Office, located at 10600 NE 51st Circle, Vancouver, Washington. The meeting will begin at 9 a.m. and continue until 4:15 p.m. The purpose of the meeting is to: (1) Review the National Roads Policy; (2) Discuss the mission of the committee, and (3) Provide for a Public Open Forum. All Southwest Washington Provincial Advisory Committee meetings are open to the public. Interested citizens are encouraged to attend. The “open forum” provides opportunity for the public to bring issues, concerns, and discussion topics to the Advisory Committee. The “open forum” is scheduled as part of agenda item (3) for this meeting. Interested speakers will need to register prior to the open forum period. The committee welcomes the public's written comments on committee business at any time.

FOR FURTHER INFORMATION CONTACT: Direct questions regarding this meeting to Linda Turner, Public Affairs Specialist, at (360) 891-5195, or write Forest Headquarters Office, Gifford Pinchot National Forest, 10600 NE. 51st Circle, Vancouver, WA 98682.

Dated: October 26, 2000.
Claire Lavendel,
Forest Supervisor.

[FR Doc. 00-28038 Filed 10-31-00; 8:45 am]

BILLING CODE 3410-11-M